FEDERAL COMMUNICATIONS COMMISSION

47 CFR Part 90

[WP Docket No. 07-100; FCC 07-85]

Editorial Amendments

AGENCY: Federal Communications Commission.

ACTION: Final rule.

SUMMARY: In this document, the Federal Communications Commission (Commission) makes certain minor editorial amendments to its rules to correct errors or omissions of publication, eliminate duplicative language, or conform the rules with other rule sections in effort to provide clear and concise rules that are easy for the public to understand.

DATES: Effective July 27, 2007.

FOR FURTHER INFORMATION CONTACT: Rodney P. Conway, at Rodney.Conway@FCC.gov, Wireless Telecommunications Bureau, (202) 418-2904, or TTY (202) 418-7233.

SUPPLEMENTARY INFORMATION: This is a summary of the Commission's Order in WP Docket No. 07-100, FCC 07-85, adopted on May 9, 2007, and released May 14, 2007. The full text of this document is available for inspection and copying during normal business hours in the FCC Reference Center, 445 12th Street, SW., Washington, DC 20554. The complete text may be purchased from the Commission's copy contractor, Best Copy and Printing, Inc., 445 12th Street, SW., Room CY-B402, Washington, DC 20554. The full text may also be downloaded at: http://www.fcc.gov. Alternative formats are available to persons with disabilities by sending an e-mail to fcc504@fcc.gov or by calling the Consumer & Governmental Affairs Bureau at 202-418-0530 (voice), 202-418-0432 (tty).

1. Part 90 contains the rules for both the Private Land Mobile Radio (PLMR) Services and certain Commercial Mobile Radio Services (CMRS). PLMR licensees generally do not provide for-profit communications services. Some examples of PLMR licensees are public safety agencies, businesses that use radio only for their internal operations, utilities, transportation entities, and medical service providers. CMRS licensees, by comparison, do provide for-profit communications services, such as paging and Specialized Mobile Radio services that offer customers communications that are interconnected to the public switched network.

2. We take this opportunity to make certain minor editorial amendments to part 90 to correct errors or omissions of publication, eliminate duplicative language, and conform language among rule sections.

I. Procedural Matters

A. Paperwork Reduction Act

3. This document does not contain proposed information collection(s) subject to the Paperwork Reduction Act of 1995 (PRA), Public Law 104-13. In addition, therefore, it does not contain any new or modified “information collection burden for small business concerns with fewer than 25 employees,” pursuant to the Small Business Paperwork Relief Act of 2002, Public Law 107-198, see 44 U.S.C. 3506(c)(4).

List of Subjects in 47 CFR Part 90

Communications equipment, Radio, Reporting and recordkeeping requirements.

Federal Communications Commission.
Marlene H. Dortch,
Secretary.

Rule Changes

For the reasons disussed in the preamble, the Federal Communications Commission amends 47 CFR part 90 to read as follows:

PART 90—PRIVATE LAND MOBILE RADIO SERVICES

1. The authority citation for part 90 continues to read as follows:

Authority: Sections 4(i), 11, 303(g), 303(r), and 332(c)(7) of the Communications Act of 1934, as amended, 47 U.S.C. 154(i), 161, 303(g), 303(r), and 332(c)(7).

2. Amend § 90.5 by revising paragraphs (b), (h), and the introductory text in paragraph (i) to read as follows:

§ 90.5 Other applicable rule parts.

* * * * *

(b) Part 1 includes rules of practice and procedure for the filing of applications for stations to operate in the Wireless Telecommunications Services, adjudicatory proceedings including hearing proceedings, and rulemaking proceedings; procedures for reconsideration and review of the Commission's actions; provisions concerning violation notices and forfeiture proceedings; and the environmental processing requirements that, if applicable, must be complied with prior to initiating construction.

* * * * *

(h) Part 20 contains rules relating to commercial mobile radio services.

* * * * *

(i) Part 20 which governs commercial mobile radio service applicable to certain providers in the following services in this part:

* * * * *

3. Amend § 90.7 by removing the definition of “Navigable waters,” and by revising the definitions of “Frequency coordination,” “Line A,” “Location and Monitoring Service (LMS),” “Telecommand,” and “Telephone maintenance licensee” to read as follows:

§ 90.7 Definitions.

* * * * *

Frequency coordination. The process of obtaining the recommendation of a frequency coordinator for a frequency(ies) that will most effectively meet the applicant's needs while minimizing interference to licensees already operating within a given frequency band.

* * * * *

Line A. An imaginary line within the U.S., approximately paralleling the U.S.-Canadian border, north of which Commission coordination with the Canadian authorities in the assignment of frequencies is generally required. It begins at Aberdeen, Washington, running by great circle arc to the intersection of 48° N., 120° W., then along parallel 48° N., to the intersection of 95° W., thence by great circle arc through the southernmost point of Duluth, Minnesota, thence by great circle arc to 45° N., 85° W., thence southward along meridian 85° W. to its intersection with parallel 41° N., to its intersection with meridian 82° W., thence by great circle arc through the southernmost point of Bangor, Maine, thence by great circle arc through the southernmost of Searsport, Maine, at which point it terminates.

* * * * *

Location and Monitoring Service (LMS). The use of non-voice signaling methods to locate or monitor mobile radio units. LMS systems may transmit and receive voice and non-voice status and instructional information related to such units.

* * * * *

Telecommand. The transmission of non-voice signals for the purpose of remotely controlling a device.

* * * * *

Telephone maintenance licensee. Communications common carriers engaged in the provision of landline local exchange telephone service, or inter-exchange communications service, and radio communications common carriers authorized under part 21 of this chapter. Resellers that do not own or control transmission facilities are not included in this category.

* * * * *

4. Amend § 90.20 as follows:

a. Amend the table in paragraph (c)(3) by removing entry 530 and adding an entry 530 to 1700 in its place;

b. Revise the frequency band entries to the table in paragraph (c)(3) for the following entries: 42.40, 152.0075, 157.450, 158.7225, 158.745, 158.790, 158.805, 158.850, 159.465, 159.4725, 163.250, 166.250, 220 to 222, 453.03125, 453.0375, 453.04375, 453.08125, 453.0875, 453.09375, 453.13125, 453.1375, 453.14375, 453.18125, 453.1875, 453.19375, 460.050, 460.05625, 460.0625, 462.9375, and 462.950;

c. Revising paragraphs (d)(42), (d)(62), and (d)(64);

d. Revise the frequency bands entries to the table in paragraph (d)(66)(i) for the following entries: 463.06875 and 463.08125;

e. Amend the table in paragraph (d)(66)(i) by removing entry 460.75 and adding entry 463.075 in its place;

f. Revise paragraphs (d)(79), (d)(81), (e)(3) and (e)(4), and (g)(5)(iv), to read as follows:

§ 90.20 Public Safety Pool.

(c) * * *

(3) * * *

Public Safety Pool Frequency Table
Frequency or band | Class of station(s) | Limitations | Coordinator
* * * * * * *
530 to 1700 | Base (T.I.S.) | 1 | PX
* * * * * * *
42.40 | ......do | 2, 3, 16, 17 | PP
* * * * * * *
152.0075 | Base | 13, 29, 30 | PS
* * * * * * *
157.450 | Base | 13, 30, 45 | PS
* * * * * * *
158.7225 | Base or mobile | 44 | PP
* * * * * * *
158.745 | ......do | 81 | PX
* * * * * * *
158.790 | ......do |  | PP
* * * * * * *
158.805 | ......do |  | PX
* * * * * * *
158.850 | ......do |  | PP
* * * * * * *
159.465 | ......do | 81 | PO
159.4725 | ......do | 80 | PO
163.250 | Base | 13, 30 | PS
166.250 | Base or mobile | 47 | PF
* * * * * * *
220 to 222 | Base or mobile | 55 |
453.03125 | Base or mobile | 44, 49, 62, 84 | PM
453.0375 | ......do | 27, 59, 62, 84 | PX
453.04375 | ......do | 44, 49, 62, 84 | PM
* * * * * * *
453.08125 | Base or mobile | 44, 59, 62, 84 | PM
453.0875 | ......do | 27, 59, 62, 84 | PX
453.09375 | ......do | 44, 59, 62, 84 | PM
* * * * * * *
453.13125 | Base or mobile | 44, 59, 62, 84 | PM
* * * * * * *
453.1375 | ......do | 27, 59, 62, 84 | PX
453.14375 | ......do | 44, 59, 62, 84 | PM
* * * * * * *
453.18125 | Base or mobile | 44, 59, 62 | PM
453.1875 | ......do | 27, 59, 62 | PX
453.19375 | ......do | 44, 59, 62 | PM
* * * * * * *
460.050 | ......do |  | PP
460.05625 | ......do | 44 | PP
460.0625 | ......do | 27 | PP
* * * * * * *
462.9375 | ......do | 57 | PF
462.950 | ......do | 38, 65 | PM
* * * * * * *

(d) * * *

(42) This frequency may not be assigned within 161 km (100) miles of New Orleans, LA (coordinates 29°56′53″ N and 90°04′10″ W).

* * * * *

(62) This frequency is also authorized for use by biomedical telemetry stations. F1B, F1D, F2B, F2D, F3E, G1B, G1D, G2B, G2D, and G3E emissions may be authorized for biomedical transmissions.

* * * * *

(64) Use of this frequency is on a secondary basis, limited to 2 watts output power and subject to the provisions of 90.267(h)(1), (h)(2), (h)(3), and (h)(4).

* * * * *

(66) * * *

(i) * * *

Frequencies base and mobile (megahertz) | Mobile only (MHz) | Channel name
* * * * *
463.06875 | 468.06875 | MED-33
463.075 | 468.075 | MED-4
463.08125 | 468.08125 | MED-41
* * * * *

* * * * *

(79) This frequency will be secondary to marine port operations within 161 km (100 miles) of Los Angeles, Calif. (coordinates 34°03′15″ N and 118°14′28″ W).

* * * * *

(81) After December 7, 2000 new stations will only be licensed with an authorized bandwidth not to exceed 1125 kHz. Licensees authorized prior to December 7, 2000 may continue to use bandwidths wider that 1125 kHz on a co-primary basis until January 1, 2005. After January 1, 2005, all stations operating with an authorized bandwidth greater than 11.25 kHz will be secondary to adjacent channel interoperability operations.

* * * * *

(e) * * *

(3) The frequency bands 31.99-32.00 MHz, 33.00-33.01 MHz, 33.99-34.00 MHz, 37.93-38.00 MHz, 39.99-40.00 MHz, and 42.00-42.01 MHz, are available for assignment for developmental operation subject to the provisions of subpart Q of this part.

(4) Frequencies in the 421-430 MHz band are available in the Detroit, Mich., Cleveland, Ohio and Buffalo, N.Y. areas in accordance with the rules in §§ 90.273 through 90.281.

* * * * *

(g) * * *

(5) * * *

(iv) The following table, along with the antenna height (HAAT) and power (ERP), must be used to determine the minimum separation required between proposed base stations and co-channel public coast stations licensed prior to July 6, 1998 under part 80 of this chapter. Applicants whose exact ERP or HAAT are not reflected in the table must use the next highest figure shown.

* * * * *

§ 90.35 [Amended]

5. Amend § 90.35 as follows:

a. Revise the frequency band entries to the table in paragraph (b)(3) for the following entries: 27.555, 27.615, 27.635, 27.655, 27.765, 27.86, 29.71, 33.12, 35.44, 35.48, 35.52, 151.89, 151.955, 158.1225, 173.250, 173.300, 173.350, 220 to 222, 451.01875, 462.9375, 464.575; and

b. Revise paragraphs (c)(14), (c)(20), (c)(21), (d)(2), (e)(4), and (g), to read as follows:

§ 90.35 Industrial/Business Pool.

* * * * *

(b) * * *

(3) * * *

Industrial/Business Pool Frequency Table
Frequency or band | Class of station(s) | Limitations | Coordinator
* * * * * * *
27.555 | Base or mobile | 89
27.615 | ......do | 89
27.635 | ......do | 89
27.655 | ......do | 89
27.765 | ......do | 89
27.86 | ......do | 82
29.71 | ......do
* * * * * * *
33.12 | Mobile | 11
* * * * * * *
35.44 | ......do
35.48 | ......do
35.52 | ......do
* * * * * * *
151.89 | ......do
* * * * * * *
151.955 | ......do
* * * * * * *
158.1225 | ......do | 33 | IW
* * * * * * *
173.250 | Base or mobile |  | IP, IW
* * * * * * *
173.300 | Base or mobile |  | IP, IW
* * * * * * *
173.350 | Base or mobile
* * * * * * *
220 to 222 | Base or mobile
* * * * * * *
451.01875 | Base or mobile | 33 | IW
* * * * * * *
462.9375 | Mobile | 88
* * * * * * *
464.575 | ......do | 62
* * * * * * *

* * * * *

(c) * * *

(14) Operation on this frequency is limited to a maximum output power of 1 watt and each station authorized will be classified and licensed as a mobile station. Any units of such a station, however, may provide the operational functions of a base or fixed station on a secondary basis to mobile service operations, provided that the separation between the control point and the center of the radiating portion of the antenna of any units so used does not exceed 8m (25 ft.).

* * * * *

(20) In the State of Alaska only, the frequency 44.10 MHz is available for assignment on a primary basis to stations in the Common Carrier Rural Radio Service utilizing meteor burst communications. The frequency may be used by private radio stations for meteor burst communications on a secondary, non-interference basis. Usage shall be in accordance with parts 22 and 90 of this chapter. Stations utilizing meteor burst communications shall not cause harmful interference to stations of other radio services operating in accordance with the allocation table.

(21) In the State of Alaska only, the frequency 44.20 MHz is available for assignment on a primary basis to private land mobile radio stations utilizing meteor burst communications. The frequency may be used by common carrier stations for meteor burst communications on a secondary, non-interference basis. Usage shall be in accordance with parts 22 and 90 of this chapter. Stations utilizing meteor burst communications shall not cause harmful interference to stations of other radio services operating in accordance with the allocation table.

* * * * *

(d) * * *

(2) Frequencies in the band 73.0-74.6 MHz may be assigned to stations authorized on or before December 1, 1961, but no new stations will be authorized in this band, nor will expansion of existing systems be permitted. (See also § 90.257).

* * * * *

(e) * * *

(4) Authorizations for multiple frequencies for geophysical operations will be granted on the frequencies governed by the limitations in paragraphs (c)(3) and (c)(4) of this section. However, each geophysical exploration party may use a maximum of four frequencies at any one time.

* * * * *

(g) The frequencies 10-490 kHz are used to operate electric utility Power Line Carrier (PLC) systems on power transmission lines for communications essential to the reliability and security of electric service to the public, in accordance with part 15 of this chapter. Any electric utility that generates, transmits, or distributes electrical energy for use by the general public or by the members of a cooperative organization may operate PLC systems and shall supply to a Federal Communications Commission/National Telecommunications and Information Administration recognized industry-operated entity, information on all existing, changes to existing, and proposed systems for inclusion in a data base. Such information shall include the frequency, power, location of transmitter(s), location of receivers and other technical and operational parameters, which would characterize the system's potential both to interfere with authorized radio users, and to receive harmful interference from these users. In an agreed upon format, the industry-operated entity shall inform the FCC and the NTIA of these system characteristics prior to implementation of any proposed PLC system and shall provide monthly or periodic lists with supplements of PLC systems. The FCC and NTIA will supply appropriate application and licensing information to the notification activity regarding authorized radio stations operating in the band. PLC systems in this band operate on a non-interference basis to radio systems assigned frequencies by the NTIA or licensed by the FCC and are not protected from interference due to these radio operations.

6. Amend § 90.103 by revising the entry for “1750 to 1800” to the table in paragraph (b), and revising paragraphs (c)(2), (c)(6), removing and reserving (c)(7), and by revising paragraph (c)(21) to read as follows:

§ 90.103 Radiolocation Service.

* * * * *

(b) * * *

Frequency or band | Class of station(s) | Limitation
* * * * *
1750 to 1800 | ......do | 5, 6
* * * * *

(c) * * *

(2) This frequency band is shared with and stations operating in this frequency band in this service are on a secondary basis to the LORAN Navigation System; all operations are limited to radiolocation land stations in accordance with footnote US104, § 2.106 of this chapter.

* * * * *

(6) Because of the operation of stations having priority on the same or adjacent frequencies in this or in other countries, frequency assignments in this band may either be unavailable or may be subject to certain technical or operational limitations. Therefore, applications for frequency assignments in this band shall include information concerning the transmitter output power, the type and directional characteristics of the antenna and the minimum hours of operation (GMT).

(7) [Reserved]

* * * * *

(21) Non-Government radiolocation stations in the band are secondary to the Government Radiolocation Service, the Amateur Radio Service and the Amateur-Satellite Service. Pulse-ranging radiolocation stations in this band may be authorized along the shorelines of Alaska and the contiguous 48 states. Radiolocation stations using spread spectrum techniques may be authorized in the band 420-435 MHz for operation within the contiguous 48 states and Alaska. Also, stations using spread spectrum techniques shall be limited to a maximum output power of 50 watts, shall be subject to the applicable technical standards in § 90.209 until such time as more definitive standards are adopted by the Commission and shall identify in accordance with § 90.425(c)(2). Authorizations will be granted on a case-by-case basis; however, operations proposed to be located within the zones set forth in footnote US217, § 2.106 of this chapter should not expect to be accommodated.

* * * * *

7. Amend § 90.129 by revising paragraph (i) to read as follows:

§ 90.129 Supplemental information to be routinely submitted with applications.

* * * * *

(i) Showings required in connection with the use of frequencies as specified in subpart S of this chapter.

* * * * *

8. Revise § 90.138 to read as follows:

§ 90.138 Applications for itinerant frequencies.

An application for authority to conduct an itinerant operation in the Industrial/Business Pool must be restricted to use of itinerant frequencies or other frequencies not designated for permanent use and need not be accompanied by evidence of frequency coordination. Users should be aware that no interference protection is provided from other itinerant operations.

9. Revise § 90.157 to read as follows:

§ 90.157 Discontinuance of station operation.

An authorization shall cancel automatically upon permanent discontinuance of operations. Unless stated otherwise in this part or in a station authorization, for the purposes of this section, any station which has not operated for one year or more is considered to have been permanently discontinued.

10. Amend § 90.203 by revising paragraph (n) to read as follows:

§ 90.203 Certification required.

* * * * *

(n) Transmitters designed to operate in the voice mode on channels designated in §§ 90.531(b)(5) or 90.531(b)(6) that do not provide at least one voice path of 6.25 kHz of spectrum bandwidth shall not be manufactured in or imported into the United States after December 31, 2006. Marketing of these transmitters shall not be permitted after December 31, 2006.

* * * * *

11. Amend § 90.207 by revising paragraph (b) to read as follows:

§ 90.207 Types of emissions.

* * * * *

(b) Authorizations to use A3E, F3E, or G3E emission also include the use of emissions for tone signals or signaling devices whose sole functions are to establish and to maintain communications, to provide automatic station identification, and for operations in the Public Safety Pool, to activate emergency warning devices used solely for the purpose of advising the general public or emergency personnel of an impending emergency situation.

* * * * *

12. Amend § 90.209 in the table to paragraph (b)(5) by removing the entry for 216-2205 and adding an entry for 216-220, and footnote 5 and removing the entry for 2450-2483.52 and adding an entry for 2450-2483.5 and revising footnote 3 to read as follows:

§ 90.209 Bandwidth limitations.

* * * * *

(b) * * *

(5) * * *

Standard Channel Spacing/Bandwidth
Frequency band (MHz) | Channel spacing (kHz) | Authorized bandwidth (kHz)
* * * * *
216-220 ⁵ | 6.25 | 20/11.25/6
* * * * *
³ 2450-2483.5 ²
* * * * *
* * * * *
² Bandwidths for radiolocation stations in the 420-450 MHz band and for stations operating in bands subject to this footnote will be reviewed and authorized on a case-by-case basis.
³ Operations using equipment designed to operate with a 25 kHz channel bandwidth will be authorized a 20 kHz bandwidth. Operations using equipment designed to operate with a 12.5 kHz channel bandwidth will be authorized a 11.25 kHz bandwidth. Operations using equipment designed to operate with a 6.25 kHz channel bandwidth will be authorized a 6 kHz bandwidth.
* * * * *
⁵ See § 90.259.

* * * * *

13. Amend § 90.210 by revising paragraph (l)(6) to read as follows:

§ 90.210 Emission masks.

* * * * *

(l) * * *

(6) On any frequency removed from the assigned frequency above 150% of the authorized bandwidth: 40 dB.

* * * * *

14. Amend § 90.212 by revising paragraph (c) to read as follows:

§ 90.212 Provisions relating to the use of scrambling devices and digital voice modulation.

* * * * *

(c) The transmission of any non-voice information or data under the authorization of F1E or G1E emission is prohibited. However, stations authorized the use of F1E or G1E emission may also be authorized F1D, F2D, G1D or G2D emission for non-voice communication purposes, pursuant to § 90.207(l).

* * * * *

15. Amend § 90.219 by revising paragraph (c) to read as follows:

§ 90.219 Use of signal boosters.

* * * * *

(c) Class A narrowband boosters must meet the out-of-band emission limits of § 90.210 for each narrowband channel that the booster is designed to amplify. Class B broadband signal boosters must meet the emission limits of § 90.210 for frequencies outside of the booster's designed passband.

* * * * *

16. Amend § 90.233 by revising paragraph (c) to read as follows:

§ 90.233 Base/mobile non-voice operations.

* * * * *

(c) Provisions of this section do not apply to authorizations for paging, telemetry, radiolocation, automatic vehicle monitoring systems (AVM), radioteleprinter, radio call box operations, or authorizations granted pursuant to subpart T of this part.

17. Amend § 90.235 by revising paragraphs (e) and (l) to read as follows:

§ 90.235 Secondary fixed signaling operations.

* * * * *

(e) Until December 31, 1999, for systems in the Public Safety Pool authorized prior to June 20, 1975, and Power and Petroleum licensees as defined in § 90.7 authorized prior to June 1, 1976, the maximum duration of any signaling transmission shall not exceed 6 seconds and shall not be repeated more than 5 times. Such systems include existing facilities and additional facilities which may be authorized as a clear and direct expansion of existing facilities. After December 31, 1999, all signaling systems shall be required to comply with the 2 second message duration and 3 message repetition requirements.

* * * * *

(l) Secondary fixed signaling operations conducted in accordance with the provisions of §§ 90.317(a) or 90.637 are exempt from the foregoing provisions of this section.

18. Amend § 90.237 by revising paragraphs (a) and (g) to read as follows:

§ 90.237 Interim provisions for operation of radioteleprinter and radiofacsimile devices.

* * * * *

(a) Information must be submitted with an application to establish that the minimum separation between a proposed radioteleprinter or radiofacsimile base station and the nearest co-channel base station of another licensee operating a voice system is 120 km (75 mi) for a single frequency mode of operation, or 56 km (35 mi) for two frequency mode of operation. Where this minimum mileage separation cannot be achieved, either agreement to the use of F1B, F2B, F3C, G1B, G2B or G3C emission must be received from all existing co-channel licensees using voice emission within the applicable mileage limits, or if agreement was not received, the licensee of the radioteleprinter or radiofacsimile system is responsible for eliminating any interference with preexisting voice operations. New licensees of voice operations will be expected to share equally any frequency occupied by established radioteleprinter or radiofacsimile operations.

* * * * *

(g) For single sideband operations in accordance with § 90.266, transmitters certified under this part for use of J3E emission may also be used for A2B and F2B emissions for radioteleprinter transmissions. Transmitters certified under this part for use of J3E emission in accordance with §§ 90.35(c)(1)(A), 90.35(c)(1)(B), 90.35(c)(1)(C) and 90.257(a) may also be used for A1B, A2B, F1B, F2B, J2B, and A3C emissions to provide standby backup circuits for operational telecommunications circuits which have been disrupted, where so authorized in other sections of this part.

19. Amend § 90.241 by revising the introductory text for paragraph (a) to read as follows:

§ 90.241 Radio call box operations.

(a) The frequencies in the 72-76 MHz band listed in § 90.257(a)(1) may be assigned in the Public Safety Pool for operation of radio call boxes to be used by the public to request fire, police, ambulance, road service, and other emergency assistance, subject to the following conditions and limitations:

* * * * *

20. Amend § 90.242 by revising paragraphs (a)(2)(i), (a)(2)(ii), (a)(3), (a)(4), (a)(6) and (a)(7) to read as follows:

§ 90.242 Travelers' information stations.

(a) * * *

(2) * * *

(i) A statement certifying that the transmitting site of the Travelers' Information Station will be located at least 15 km (9.3 miles) measured orthogonally outside the measured 0.5 mV/m daytime contour (0.1 mV/m for Class A stations) of any AM broadcast station operating on a first adjacent channel or at least 130 km (80.6 miles) outside the measured 0.5 mV/m daytime contour (0.1 mV/m for Class A stations) of any AM broadcast station operating on the same channel, or, if nighttime operation is proposed, outside the theoretical 0.5 mV/m-50% nighttime skywave contour of a U.S. Class A station. If the measured contour is not available, then the calculated 0.5 mV/m field strength contour shall be acceptable. These contours are available at the concerned AM broadcast station and FCC offices in Washington, DC.

(ii) In consideration of possible cross-modulation and inter-modulation interference effects which may result from the operation of a Travelers' Information Station in the vicinity of an AM broadcast station on the second or third adjacent channel, the applicant shall certify that it has considered these possible effects and, to the best of its knowledge, does not foresee interference occurring to broadcast stations operating on second or third adjacent channels.

* * * * *

(3) Travelers' Information Stations will be authorized on a secondary basis to stations authorized on a primary basis in the band 510-1715 kHz.

(4) A Travelers' Information Station authorization may be suspended, modified, or withdrawn by the Commission without prior notice or right to hearing if necessary to resolve interference conflicts, to implement agreements with foreign governments, or in other circumstances warranting such action.

* * * * *

(6) A Travelers' Information Station shall normally be authorized to use a single transmitter. However, a system of stations, with each station in the system employing a separate transmitter, may be authorized for a specific area provided sufficient need is demonstrated by the applicant.

(7) Travelers' Information Stations shall transmit only noncommercial voice information pertaining to traffic and road conditions, traffic hazard and travel advisories, directions, availability of lodging, rest stops and service stations, and descriptions of local points of interest. It is not permissible to identify the commercial name of any business whose service may be available within or outside the coverage area of a Travelers' Information Station. However, to facilitate announcements concerning departures/arrivals and parking areas at air, train, and bus terminals, the trade name identification of carriers is permitted.

* * * * *

21. Amend § 90.250 by revising paragraphs (f) and (i) to read as follows:

§ 90.250 Meteor burst communications.

* * * * *

(f) The maximum authorized bandwidth is 20 kHz.

* * * * *

(i) Stations employing meteor burst communications shall not cause interference to other stations operating in accordance with the allocation table. New authorizations will be issued subject to the Commission's developmental grant procedure as outlined in subpart Q of this part. Prior to expiration of the developmental authorization, application Form 601 should be filed for issuance of a permanent authorization.

22. Amend § 90.257 by revising paragraph (a)(1) to read as follows:

§ 90.257 Assignment and use of frequencies in the band 72-76 MHz.

(a) * * *

(1) The following frequencies in the band 72-76 MHz may be used for fixed operations:

MHz
72.02 | 72.80
72.04 | 72.82
72.06 | 72.84
72.08 | 72.86
72.10 | 72.88
72.12 | 72.90
72.14 | 72.92
72.16 | 72.94
72.18 | 72.96
72.20 | 72.98
72.22 | 75.42
72.24 | 75.46
72.26 | 75.50
72.28 | 75.54
72.30 | 75.58
72.32 | 75.62
72.34 | 75.64
72.36 | 75.66
72.38 | 75.68
72.40 | 75.70
72.42 | 75.72
72.46 | 75.74
72.50 | 75.76
72.54 | 75.78
72.58 | 75.80
72.62 | 75.82
72.64 | 75.84
72.66 | 75.86
72.68 | 75.88
72.70 | 75.90
72.72 | 75.92
72.74 | 75.94
72.76 | 75.96
72.78 | 75.98

* * * * *

23. Amend § 90.259 by revising paragraph (a)(5) to read as follows:

§ 90.259 Assignment and use of frequencies in the bands 216-220 MHz and 1427-1432 MHz.

(a) * * *

(5) In the 217-220 MHz band, base, mobile, and operational fixed operations are permitted.

* * * * *

24. Amend § 90.261 by revising paragraph (c) to read as follows:

§ 90.261 Assignment and use of frequencies in the band 450-470 MHz for fixed operations.

* * * * *

(c) All fixed systems are limited to one frequency pair with 5 MHz spacing and must employ directional antennas with a front-to-back ratio of 15dB, except that omnidirectional antennas having unity gain may be employed by stations communicating with a minimum of three receiving locations encompassed in a sector of at least 160° in azimuth. Stations authorized for secondary fixed operations prior to July 13, 1992, may continue to operate under the conditions of their initial authorization.

* * * * *

25. Revise § 90.263 to read as follows:

§ 90.263 Substitution of frequencies below 25 MHz.

Frequencies below 25 MHz when shown in the radio pool frequency listings under this part will be assigned to base or mobile stations only upon a satisfactory showing that, from a safety of life standpoint, frequencies above 25 MHz will not meet the operational requirements of the applicant. These frequencies are available for assignment in many areas; however, in individual cases such assignment may be impracticable due to conflicting frequency use authorized to stations in other services by this and other countries. In such cases, a substitute frequency, if found available, may be assigned from the following bands: 1705-1750 kHz, 2107-2170 kHz, 2194-2495 kHz, 2506-2850 kHz, 3155-3400 kHz, or 4438-4650 kHz. Since such assignments are in certain instances subject to additional technical and operation limitations, it is necessary that each application also include precise information concerning transmitter output power, type and directional characteristics, if any, of the antenna, and the minimum necessary hours of operation. (This section is not applicable to the Radiolocation Service, subpart F of this part.)

26. Amend § 90.264 by revising paragraph (h) to read as follows:

§ 90.264 Disaster communications between 2 and 10 MHz.

* * * * *

(h) Training exercises which require use of these frequencies for more than seven hours a week, cumulative, are not authorized without prior written approval from the Commission.

27. Amend § 90.303 by revising the table in paragraph (b) to read as follows:

§ 90.303 Availability of frequencies.

* * * * *

(b) * * *

Urbanized area | Geographic center: North latitude | Geographic center: West longitude | Bands (MHz) | TV channels
Boston, MA | 42°21′24.4″ | 71°03′23.2″ | 470-476, 482-488 | 14, 16
Chicago, IL¹ | 41°52′28.1″ | 87°38′22.2″ | 470-476, 476-482 | 14, 15
Cleveland, OH ² | 41°29′51.2″ | 81°49′49.5″ | 470-476, 476-482 | 14, 15
Dallas/Fort Worth, TX | 32°47′09.5″ | 96°47′38.0″ | 482-488 | 16
Detroit, MI ³ | 42°19′48.1″ | 83°02′56.7″ | 476-482, 482-488 | 15, 16
Houston, TX | 29°45′26.8″ | 95°21′37.8″ | 488-494 | 17
Los Angeles, CA ⁴ | 34°03′15.0″ | 118°14′31.3″ | 470-476, 482-488, 506-512 | 14, 16, 20
Miami, FL | 25°46′38.4″ | 80°11′31.2″ | 470-476 | 14
New York, NY/NE NJ | 40°45′06.4″ | 73°59′37.5″ | 470-476, 476-482, 482-488 | 14, 15, 16
Philadelphia, PA | 39°56′58.4″ | 75°09′19.6″ | 500-506, 506-512 | 19, 20
Pittsburgh, PA | 40°26′19.2″ | 79°59′59.2″ | 470-476, 494-500 | 14, 18
San Francisco/Oakland, CA | 37°46′38.7″ | 122°24′43.9″ | 482-488, 488-494 | 16, 17
Washington, DC/MD/VA | 38°53′51.4″ | 77°00′31.9″ | 488-494, 494-500 | 17, 18
¹ In the Chicago, IL, urbanized area, channel 15 frequencies may be used for paging operations in addition to low power base/mobile usages, where applicable protection requirements for ultrahigh frequency television stations are met.
² Channels 14 and 15 are not available in Cleveland, OH, until further order from the Commission.
³ Channels 15 and 16 are not available in Detroit, MI, until further order from the Commission.
⁴ Channel 16 is available in Los Angeles, CA, for use by eligibles in the Public Safety Radio Pool.

* * * * *

28. Revise § 90.307 to read as follows:

§ 90.307 Protection criteria.

The tables and figures listed in § 90.309 shall be used to determine the effective radiated power (ERP) and antenna height of the proposed land mobile base station and the ERP for the associated control station (control station antenna height shall not exceed 31 meters (100 feet) above average terrain (AAT)).

(a) Base stations operating on the frequencies available for land mobile use in any urbanized area and having an antenna height (AAT) less than 152 meters (500 feet) shall afford protection to co-channel and adjacent channel television stations in accordance with the values set out in tables A and E of § 90.309, except for channel 15 in New York, NY, and Cleveland, OH, and channel 16 in Detroit, MI, where protection will be in accordance with the values set forth in tables B and E in 47 CFR 90.309.

(b) For base stations having antenna heights between 152 and 914 meters (500-3000 feet) above average terrain, the effective radiated power must be reduced below 1 kilowatt in accordance with the values shown in the power reduction graph in Figure A in § 90.309, except for channel 15 in New York, NY, and Cleveland, OH, and channel 16 in Detroit, MI, where the effective radiated power must be reduced in accordance with Figure B in § 90.309. For heights of more than 152 meters (500 feet) above average terrain, the distance to the radio path horizon will be calculated assuming smooth earth. If the distance so determined equals or exceeds the distance to the Grade B contour of a co-channel TV station (Grade B contour defined in § 73.683(a) of this chapter), an authorization will not be granted unless it can be shown that actual terrain considerations are such as to provide the desired protection at the Grade B contour, or that the effective radiated power will be further reduced so that, assuming free space attenuation, the desired protection at the Grade B contour will be achieved.

(c) Mobile units and control stations operating on the frequencies available for land mobile use in any given urbanized area shall afford protection to co-channel and adjacent channel television stations in accordance with the values set forth in table C in § 90.309 and paragraph (d) of this section except for channel 15 in New York, NY, and Cleveland, OH, and channel 16 in Detroit, MI, where protection will be in accordance with the values set forth in table D in § 90.309 and paragraph (d) of this section.

(d) The minimum distance between a land mobile base station which has associated mobile units and a protected adjacent channel television station is 145 km (90 miles).

(e) The television stations to be protected (co-channel, adjacent channel, IM, and IF) in any given urbanized area, in accordance with the provisions of paragraphs (a), (b), (c), and (d) of this section, are identified in the Commission's publication “TV stations to be considered in the preparation of Applications for Land Mobile Facilities in the Band 470-512 MHz.” The publication is available at the offices of the Federal Communications Commission in Washington, D.C. or upon the request of interested persons.

29. Amend § 90.309 by revising paragraph (a)(4) and table B in paragraph (a)(5) to read as follows:

§ 90.309 Table and figures.

(a) * * *

(4) In determining the average elevation of the terrain, the elevations between 3.2 kilometers (2 miles) and 16 kilometers (10 miles) from the antenna site are employed. Profile graphs shall be drawn for a minimum of eight radials beginning at the antenna site and extending 16 kilometers (10 miles). The radials should be drawn starting with true north. At least one radial should be constructed in the direction of the nearest co-channel and adjacent channel UHF television stations. The profile graph for each radial shall be plotted by contour intervals of from 12.2 meters (40 feet) to 30.5 meters (100 feet) and, where the data permits, at least 50 points of elevation (generally uniformly spaced) should be used for each radial. For very rugged terrain, 61 meters (200 feet) to 122 meters (400 foot) contour intervals may be used. Where the terrain is uniform or gently sloping, the smallest contour interval indicated on the topographic chart may be used. The average elevation of the 12.8 kilometer (8 mile) distance between 3.2 kilometers (2 miles) and 16 kilometers (10 miles) from the antenna site should be determined from the profile graph for each radial. This may be obtained by averaging a large number of equally spaced points, by using a planimeter, or by obtaining the median elevation (that exceeded by 50 percent of the distance) in sectors and averaging those values. In the preparation of the profile graphs, the elevation or contour intervals may be taken from U.S. Geological Survey Topographic Maps, U.S. Army Corps of Engineers Maps, or Tennessee Valley Authority Maps. Maps with a scale of 1:250,000 or larger (such as 1:24,000) shall be used. Digital Terrain Data Tapes, provided by the National Cartographic Institute, U.S. Geologic Survey, may be utilized in lieu of maps, but the number of data points must be equal to or exceed that specified above. If such maps are not published for the area in question, the next best topographic information should be used.

(5) * * *

Table B.—Base Station—Cochannel Frequencies (40 dB Protection) Maximum Effective Radiated Power (ERP) ¹
Distance in kilometers (miles):² | Antenna height in meters (feet) (AAT): 15 (50) | Antenna height in meters (feet) (AAT): 30.5 (100) | Antenna height in meters (feet) (AAT): 45 (150) | Antenna height in meters (feet) (AAT): 61 (200) | Antenna height in meters (feet) (AAT): 76 (250) | Antenna height in meters (feet) (AAT): 91.5 (300) | Antenna height in meters (feet) (AAT): 106 (350) | Antenna height in meters (feet) (AAT): 122 (400) | Antenna height in meters (feet) (AAT): 137 (450) | Antenna height in meters (feet) (AAT): 152.5 (500)
209 (130) | 1,000 | 1,000 | 1,000 | 1,000 | 1,000 | 1,000 | 1,000 | 1,000 | 1,000 | 1,000
201 (125) | 1,000 | 1,000 | 1,000 | 1,000 | 1,000 | 1,000 | 1,000 | 850 | 750 | 725
193 (120) | 1,000 | 1,000 | 1,000 | 1,000 | 900 | 750 | 675 | 600 | 550 | 500
185 (115) | 1,100 | 1,000 | 800 | 725 | 600 | 525 | 475 | 425 | 375 | 350
177 (110) | 850 | 700 | 600 | 500 | 425 | 375 | 325 | 300 | 275 | 225
169 (105) | 600 | 475 | 400 | 325 | 275 | 250 | 225 | 200 | 175 | 150
161 (100) | 400 | 325 | 275 | 225 | 175 | 150 | 140 | 125 | 110 | 100
153 (95) | 275 | 225 | 175 | 125 | 110 | 95 | 80 | 70 | 60 | 50
145 (90) | 175 | 125 | 100 | 75 | 50 |  |  |  |  |
¹ The effective radiated power (ERP) and antenna height above average terrain shall not exceed the values given in this table.
² At this distance from the transmitter site of protected UHF television station.

* * * * *

30. Amend § 90.315 by revising paragraphs (g) and (j) to read as follows:

§ 90.315 Special provisions governing use of frequencies in the 476-494 MHz band (TV Channels 15, 16, and 17) in the Southern Louisiana-Texas Offshore Zone.

* * * * *

(g) To provide adjacent channel protection to television stations, no shore or offshore station shall be allowed within 128 kilometers (80 miles) of the adjacent channel television station.

* * * * *

(j)(1) The following frequency bands are available for assignment in all services for use in the Zones defined in paragraph (a) of this section.

Paired Frequencies (MHz)
Zone | Transmit (or receive) | Receive (or transmit)
A | 490.01875-490.98125 | 493.01875-493.98125
B | 484.01875-484.98125 | 487.01875-487.98125
C | 478.01875-478.98125 | 481.01875-481.98125

(2) Only the first and last assignable frequencies are shown. Frequencies shall be assigned in pairs with 3 MHz spacing between transmit and receive frequencies. Assignable frequency pairs will occur in increments of 6.25 kHz. The following frequencies will be assigned for a maximum authorized bandwidth of 6 kHz: 478.01875, 478.98125, 484.01875, 484.98125, 490.01875, 490.98125, 481.01875, 481.98125, 487.01875, 487.98125, 493.01875, and 493.98125 MHz.

* * * * *

31. Amend § 90.353 by revising paragraphs (e) and (f) to read as follows:

§ 90.353 LMS operations in the 902-928 MHz band.

* * * * *

(e) Multilateration EA-licensed systems and grandfathered automatic vehicle monitoring service (AVM) systems (see § 90.363) are authorized on a shared basis and must cooperate in the selection and use of frequencies in accordance with § 90.173(b).

(f) Multilateration EA licensees may be authorized to operate on both the 919.75-921.75 MHz and 921.75-927.25 MHz bands within a given EA (see § 90.210(b)(5)).

* * * * *

32. Revise § 90.357 to read as follows:

§ 90.357 Frequencies for LMS systems in the 902-928 MHz band.

(a) Multilateration LMS systems will be authorized in the following LMS sub-bands:

LMS Sub-band | Forward Link ¹
904.000-909.750 MHz | 927.750-928.000 MHz
919.750-921.750 MHz² | 927.500-927.750 MHz
921.750-927.250 MHz | 927.250-927.500 MHz
¹ Forward links for the LMS systems may also be contained within the LMS sub-band. However, the maximum allowable power in these sub-bands is 30 watts ERP in accordance with § 90.205(k).
² The frequency band 919.750-921.750 MHz is shared co-equally between multilateration and non-multilateration LMS systems.

(b) Non-multilateriation LMS systems will be authorized in the following frequency bands:

LMS Sub-band ¹
902.000-904.000 MHz
909.750-921.750 MHz
¹ Applicants for non-multilateration LMS systems should request only the minimum amount of bandwidth necessary to meet their operational needs.

33. Amend § 90.377 by revising paragraph (a) to read as follows:

§ 90.377 Frequencies available; maximum EIRP and antenna height, and priority communications.

(a) Licensees shall transmit only the power (EIRP) needed to communicate with an On-Board Unit (OBU) within the communications zone and must take steps to limit the Roadside Unit (RSU) signal within the zone to the maximum extent practicable.

* * * * *

34. Amend § 90.419 by revising paragraph (f) to read as follows:

§ 90.419 Points of communication.

* * * * *

(f) CMRS licensees in the SMR categories of part 90, subpart S, CMRS providers authorized in the 220 MHz service of part 90, subpart T, CMRS paging operations as defined by part 90, subpart P and for-profit interconnected business radio services with eligibility defined by § 90.35 are permitted to utilize their assigned spectrum for fixed services on a co-primary basis with their mobile operations.

35. Amend § 90.425 by revising paragraphs (a)(4)(iii), (a)(5), and (c)(2) to read as follows:

§ 90.425 Station identification.

(a) * * *

(4) * * *

(iii) In the Industrial/Business Pool, railroad licensees (as defined in § 90.7) may identify stations by the name of the railroad and the train number, caboose number, engine number, or the name of the fixed wayside station. If none of these forms is practicable, any similar name or number may be designated by the railroad concerned for use by its employees in the identification of fixed points or mobile units, provided that a list of such identifiers is maintained by the railroad. An abbreviated name or the initials of the railroad may be used where such are in general usage. In those areas where it is shown that no difficulty would be encountered in identifying the transmission of a particular station (as, for example, where stations of one licensee are located in a yard isolated from other radio installations), approval may be given to a request from the licensee for permission to omit the station identification.

(5) Use of identifiers in addition to assigned call signs. Nothing in this section shall be construed as prohibiting the transmission of station or unit identifiers which may be necessary or desirable for system operation, provided that they are transmitted in addition to the assigned station call sign or other permissible form of identification.

* * * * *

(c) * * *

(2) Stations in the Radiolocation Service operating on frequencies above 3400 kHz that employ spread spectrum techniques shall transmit a two letter manufacturer's designator, authorized by the Commission on the station authorization, at the beginning and ending of each transmission and once every 15 minutes during periods of continuing operation. The designator shall be transmitted in International Morse Code at a speed not exceeding 25 words per minute, and the spread spectrum mode of operation shall be maintained while the designator is being transmitted. The identifying signal shall be clearly receivable in the demodulated audio of a narrow-band FM receiver.

* * * * *

36. Amend § 90.465 by revising paragraphs (b) and (c) to read as follows:

§ 90.465 Control of systems of communication.

* * * * *

(b) In internal systems, as defined in § 90.7, control may be maintained by conforming the system to the requirements of §§ 90.471 through 90.475.

(c) In interconnected systems, as defined in § 90.7, control may be maintained by conforming operation and system design to that permitted in §§ 90.477 through 90.483.

37. Amend § 90.475 by revising paragraph (a)(2) to read as follows:

§ 90.475 Operation of internal transmitter control systems in specially equipped systems.

(a) * * *

(2) An internal transmitter control system may be used in conjunction with other approved methods of transmitter control and interconnection so long as the internal transmitter control system, itself, is neither accessed from telephone positions in the public switched telephone network (PSTN), nor uses dial-up circuits in the PSTN. Licensees with complex communications systems involving fixed systems whose base stations are controlled by such systems may automatically access these base stations through the microwave or operational fixed systems from positions in the PSTN, so long as the base stations and mobile units meet the requirements of § 90.483 and if a separate circuit is provided for each mode of transmitter operation (i.e., conventional, dial-up or Internet).

* * * * *

38. Amend § 90.483 by revising paragraphs (b)(1)(ii), (b)(2)(i), and (b)(2)(ii) to read as follows:

§ 90.483 Permissible methods and requirements of interconnecting private and public systems of communications.

* * * * *

(b) * * *

(1) * * *

(ii) When a frequency is shared by more than one system, automatic monitoring equipment must be installed at the base station to prevent activation of the transmitter when signals of co-channel stations are present and activation would interfere with communications in progress. Licensees may operate without the monitoring equipment if they have obtained the consent of all co-channel licensees located within a 120 kilometer (75 mile) radius of the interconnected base station transmitter. A statement must be submitted to the Commission indicating that all co-channel licensees have consented to operate without the monitoring equipment. If a licensee has agreed that the use of monitoring equipment is not necessary, but later decides that the monitoring equipment is necessary, the licensee may request that the co-channel licensees reconsider the use of monitoring equipment. If the licensee cannot reach an agreement with co-channel licensees, the licensee may request that the Commission consider the matter and assign it to another channel. If a new licensee is assigned to a frequency where all the co-channel licensees have agreed that the use of monitoring equipment is not necessary, and the new licensee does not agree, the new licensee may request the co-channel licensees to reconsider the use of monitoring equipment. If the new licensee cannot reach an agreement with co-channel licensees, it should request a new channel from the Commission. Systems on frequencies above 800 MHz are exempt from this requirement.

(2) * * *

(i) When a frequency is shared by more than one system, automatic monitoring equipment must be installed at the base station to prevent activation of the transmitter when signals of co-channel stations are present and activation would interfere with communications in progress. Licensees may operate without this equipment if they have obtained the consent of all co-channel licensees located within a 120 kilometer (75 mile) radius of the interconnected base station transmitter. A statement must be submitted to the Commission indicating that all co-channel licensees have consented to operate without the monitoring equipment. If a licensee has agreed that the use of monitoring equipment is not necessary, but later decides that the monitoring equipment is necessary, the licensee may request that the co-channel licensees reconsider the use of monitoring equipment. If the licensee cannot reach an agreement with co-channel licensees, the licensee may request that the Commission consider the matter and assign it to another channel. If a new licensee is assigned to a frequency where all the co-channel licensees have agreed that the use of monitoring equipment is not necessary, and the new licensee does not agree, the new licensee may request the co-channel licensees to reconsider the use of monitoring equipment. If the new licensee cannot reach an agreement with co-channel licensees, it should request a new channel from the Commission. Systems on frequencies above 800 MHz are exempt from this requirement.

(ii) Initial access points within the public switched telephone network must be limited to transmission of a 3-second tone, after which time the transmitter shall close down. No additional signals may be transmitted until acknowledgement from a mobile station of the licensee is received. Licensees are exempt from this requirement if they have obtained the consent of all co-channel licensees located within a 120 kilometer (75 mile) radius of the interconnected base station transmitter. However, licensees may choose to set their own time limitations. A statement must be submitted to the Commission indicating that all co-channel licensees have consented to operate without the monitoring equipment. If a licensee has agreed that the use of monitoring equipment is not necessary, but later decides that the monitoring equipment is necessary, the licensee may request that the co-channel licensees reconsider the use of monitoring equipment. If the licensee cannot reach an agreement with co-channel licensees, the licensee may request that the Commission consider the matter and assign it to another channel. If a new licensee is assigned to a frequency where all the co-channel licensees have agreed that the use of monitoring equipment is not necessary, and the new licensee does not agree, the new licensee may request the co-channel licensees to reconsider the use of monitoring equipment. If the new licensee cannot reach an agreement with co-channel licensees, it should request a new channel from the Commission. Systems on frequencies above 800 MHz are exempt from this requirement.

* * * * *

39. Amend § 90.613 by revising channel 139 of the Table of 896-901/935-940 MHz Channel Designations to read as follows:

§ 90.613 Frequencies available.

Table of 896-901/935-940 MHz Channel Designations
Channel No. | Base frequency (MHz)
* * * * *
139 | .7375
* * * * *

* * * * *

[FR Doc. E7-12162 Filed 6-26-07; 8:45 am]

BILLING CODE 6712-01-P